DEPARTMENT OF TRANSPORTATION

Surface Transportation Board

[STB Finance Docket No. 34209]

Norfolk Southern Railway Company-Trackage Rights Exemption-Delaware and Hudson Railway Company, Inc.

Delaware and Hudson Railway Company, Inc. d/b/a Canadian Pacific Railway (CPR), pursuant to a written trackage rights agreement entered into between CPR and Norfolk Southern Railway Company (NSR),¹ has agreed to grant overhead trackage rights to NSR over approximately 284.6 miles of CPR's freight main line, between NSR's connection with CPR at milepost 752.0 near Sunbury, PA, and CPR's connection with Guilford Rail System (GTI) at milepost 467.40 at Mechanicville, NY.

¹ NSR is a wholly owned subsidiary of Norfolk Southern Corporation, a holding company.

The transaction is expected to be consummated no sooner than the latter of (1) July 12, 2002 (7 days after the exemption was filed), or (2) the expiration of any labor notice period to which NSR may be subject.

Under the proposed transaction, NSR will obtain trackage rights for certain restricted types and volumes of traffic, including traffic for interchange with GTI and Canadian National Railway Company. The trackage rights will enable NSR to more efficiently access and serve customers in New York State, the New England States, and the eastern Canadian rail market, in conjunction with trackage rights concurrently being obtained in STB Finance Docket No. 34225, Norfolk Southern Railway Company—Trackage Rights Exemption—Reading Blue Mountain and Northern Railroad Company.²

² Reading Blue Mountain and Northern Railroad Company (RBMN) has agreed to grant NSR overhead trackage rights over approximately 56.7 miles of RBMN's Lehigh Line between milepost 119.3 in Lehighton Yard and milepost 175.5 in Dupont, PA.

As a condition to this exemption, any employees affected by the trackage rights will be protected by the conditions imposed in Norfolk and Western Ry. Co.—Trackage Rights—BN, 354 I.C.C. 605 (1978), as modified in Mendocino Coast Ry., Inc.—Lease and Operate, 360 I.C.C. 653 (1980).

The notice is filed under 49 CFR 1180.2(d)(7). If the notice contains false or misleading information, the exemption is void ab initio. Petitions to revoke the exemption under 49 U.S.C. 10502(d) may be filed at any time. The filing of a petition to revoke will not automatically stay the transaction.

An original and 10 copies of all pleadings, referring to STB Finance Docket No. 34209, must be filed with the Surface Transportation Board, 1925 K Street, NW., Washington, DC 20423-0001. In addition, a copy of each pleading must be served on John V. Edwards, Norfolk Southern Corp., Three Commercial Place, Norfolk, VA 23510-2191.

Board decisions and notices are available on our Web site at “WWW.STB.DOT.GOV.”

Decided: July 18, 2002.
By the Board, David M. Konschnik, Director, Office of Proceedings.
Vernon A. Williams,
Secretary.

[FR Doc. 02-18847 Filed 7-24-02; 8:45 am]

BILLING CODE 4915-00-P